DEPARTMENT OF STATE

[Public Notice 3824]

Privacy Act of 1974, as Amended; Creation of a New System of Records

Notice is hereby given that the Department of State proposes to create a new system of records, STATE-03, pursuant to the provisions of the Privacy Act of 1974, as amended [5 U.S.C. 552a(r)], and the Office of Management and Budget Circular No. A-130, Appendix I. The Department's report was filed with the Office of Management and Budget on October 16, 2001.

STATE-03 is being implemented by the Department of State to facilitate its responsibility for advising the domestic and foreign communities about United States international economic policy.

Any persons interested in commenting on this new system of records may do so by submitting comments in writing to Margaret Peppe, Chief; Programs and Policies Division; Office of IRM Programs and Services; A/RPS/IPS/PP; U.S. Department of State, SA-2; Washington, DC 20522-6001.

This system of records will be effective 40 days from the date of publication, unless we receive comments that will result in a contrary determination.

This new system description, “Bureau of Economic and Business Affairs Contact List, STATE-03” will read as set forth below.

Dated: October 16, 2001.
William A. Eaton,
Assistant Secretary for the Bureau of Administration, Department of State.

STATE-03

System name:

Bureau of Economic and Business Affairs Contact List.

Security classification:

Unclassified.

System location:

Department of State; 2201 C Street, NW.; Washington, DC 20520.

Categories of individuals covered by the system:

The Bureau of Economic and Business Affairs' contacts from business, labor, agricultural and non-government organizations, and others working in the international economic arena as well as individuals who are interested in or request information about economic issues.

Categories of records in the system:

These records may include identifying information, such as, but not limited to name, mailing address, e-mail address, telephone number, fax number and the profession of the individuals covered by the system of records.

Authority for maintenance of the system:

5 U.S.C. 301 (Management of the Department of State); 22 U.S.C. 2651a (Organization of the Department of State); 22 U.S.C. 3921 (Management of service).

Purpose(s):

The information contained in this system of records is collected and maintained by the Bureau of Economic and Business Affairs, Office of Policy Analysis and Public Diplomacy in the administration of its responsibility for disseminating information regarding U.S. international economic policy.

Routine uses of records maintained in the system, including categories of users and purposes of such uses:

The information in the Bureau of Economic and Business Affairs Contact List is used for:

• Inviting individuals to Department briefings on international economic issues;

• Disseminating speeches and articles on economic issues by Department officials; and

• Providing U.S. government fact sheets on major international economic issues.

Policies and practices for storing, retrieving, accessing, retaining and disposing of records in the system:

Storage:

Electronic media, hard copy.

Retrievability:

Individual name.

Safeguards:

All employees of the Department of State have undergone a thorough background security investigation. Access to the Department and its annexes is controlled by security guards and admission is limited to those individuals possessing a valid identification card or individuals under proper escort. All records containing personal information are maintained in secured file cabinets or in restricted areas, access to which is limited to authorized personnel. Access to computerized files is password-protected and under the direct supervision of the system manager. The system manager has the capability of printing audit trails of access from the computer media, thereby permitting regular and ad hoc monitoring of computer usage.

Retention and disposal:

These records will be maintained until they become inactive, at which time they will be retired or destroyed in accordance with published records schedules of the Department of State and as approved by the National Archives and Records Administration. More specific information may be obtained by writing to the Director; Office of IRM Programs and Services; SA-2; Department of State; 515 22nd Street, NW.; Washington, DC 20522-6001.

System manager(s) and address:

Director; Systems Administration; Bureau of Economic and Business Affairs; Department of State; 2201 C Street, NW.; Washington, DC 20520.

Notification procedure:

Individuals who have reason to believe that the Office of Policy Analysis and Public Diplomacy might have records pertaining to themselves should write to the Director; Office of IRM Programs and Services; Department of State; SA-2; 515 22nd Street NW.; Washington, DC 20522-6001. The individual must specify that he/she wishes the Bureau of Economic and Business Affairs Contact List to be checked. At a minimum, the individual should include: name, date and place of birth, current mailing address and zip code, signature, and preferably his/her social security number.

Record access and amendment procedures:

Individuals who wish to gain access to or amend records pertaining to themselves should write to the Director, Office of IRM Programs and Services (address above).

Record source categories:

These records contain information obtained primarily from the individual who is the subject of these records. The records may also include information obtained from the Bureau of Economic and Business Affairs officials who have an association or working relationship with the individual.

Systems exempted from certain provisions of the Act:

None.

[FR Doc. 01-27014 Filed 10-25-01; 8:45 am]

BILLING CODE 4710-24-P